DEPARTMENT OF THE TREASURY

Submission for OMB Review; Comment Request

October 11, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 19, 2001 to be assured of consideration.

Internal Revenue Service (IRS)

OMB Number: 1545-0710.

Form Number: IRS Forms 5500, 5500-C/R and Schedules (1998 Version).

Type of Review: Extension.

Title: Annual Return/Report of Employee Benefit Plan, Return/Report of Employee Benefit Plan and Associated Schedules.

Description: Forms 5500 and 5500-C/R are annual information returns filed by Employee Benefit Plans. The IRS uses this information to determine if the plan appears to be operating properly as required under the law or whether the plan should be audited.

Respondents: Business or other for-profit.

Estimated Number of Respondents/Recordkeepers: 25,000.

Estimated Burden Hours Per Respondent/Recordkeeper: Varies.

Frequency of Response: Annually.

Estimated Total Reporting/Recordkeeping Burden: 775,726 hours.

OMB Number: 1545-1083.

Regulation Project Number: INTL-399-88 Final.

Type of Review: Extension.

Title: Treatment of Dual Consolidated Losses.

Description: Section 1503(d) denies use of the losses of one domestic corporation by another affiliated domestic corporation where the loss corporation is also subject to the income tax of another country. The regulation allows an affiliate to make use of the loss if the loss has not been used in the foreign group, to take the loss into income upon future use of the loss in the foreign country. The regulation also requires separate accounting for a dual consolidated loss where the dual resident corporation files a consolidated return.

Respondents: Business or other for-profit.

Estimated Number of Respondents: 500.

Estimated Burden Hours Per Respondent: 3 hours, 14 minutes.

Frequency of Response: Annually.

Estimated Total Reporting Burden: 1,620 hours.

OMB Number: 1545-1339.

Regulation Project Number: IA-33-92 Final.

Type of Review: Extension.

Title: Information Reporting for Reimbursements of Interest on Qualified Mortgages.

Description: To encourage compliance with the tax laws relating to the mortgage interest deduction, the regulations require the reporting on Form 1098 of reimbursements of interest overcharged in a prior year. Only businesses that receive mortgage interest in the course of that business are affected by this reporting requirement.

Respondents: Business or other for-profit.

Estimated Number of Respondents/Recordkeepers: 1.

Estimated Burden Hours Per Respondent/Recordkeeper: 1 hour.

Frequency of Response: Annually.

Estimated Total Reporting/Recordkeeping Burden: 1 hour.

OMB Number: 1545-1384.

Form Number: IRS Form 3911.

Type of Review: Extension.

Title: Taxpayer Statement Regarding Refund.

Description: If taxpayer inquires about their nonreceipt of refund (or lost or stolen refund) and the refund has been issued, the information and taxpayer signature are needed to begin tracing action.

Respondents: Individuals or households, Business or other for-profit, Not-for-profit institutions.

Estimated Number of Respondents: 520,000.

Estimated Burden Hours Per Respondent: 5 minutes.

Frequency of Response: On occasion.

Estimated Total Reporting Burden: 43,160 hours.

OMB Number: 1545-1463.

Form Number: IRS Form 4996.

Type of Review: Extension.

Title: Electronic/Magnetic Media Filing Transmittal for Wage and Withholding Tax Returns.

Description: Form 4996 allows reporting agents to identify tax returns submitted on magnetic tapes or electronic transmissions. The reporting agent's signature is the signature of the “composite return” as required by Internal Revenue Regulations 31.6011(a)-8. Reporting agents are persons or organizations that submit tax returns or Federal tax deposits on magnetic tape or via telecommunications.

Respondents: Individuals or households.

Estimated Number of Respondents: 400.

Estimated Burden Hours Per Respondent: 6 minutes.

Frequency of Response: Annually.

Estimated Total Reporting Burden: 170 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-26262 Filed 10-17-01; 8:45 am]

BILLING CODE 4830-01-P